FEDERAL MEDIATION AND CONCILIATION SERVICE

Privacy Act of 1974; Notice of the Addition of a New System of Records

AGENCY: Federal Mediation and Conciliation Service.

ACTION: Notice of existence and character of a new system of records.

SUMMARY: The Federal Mediation and Conciliation Service (“FMCS”), under the requirements of the Privacy Act of 1974, as amended, 5 U.S.C. 552a(e)(4), is hereby publishing a notice of a new system to be added to the FMCS systems of records. Title 5 U.S.C. 552a(e)(4) and (11) provides that the public be given 30 days to comment on the amended system of records. The Office of Management and Budget (OMB), which has oversight responsibilities under the Privacy Act, requires 40 days to conclude its review of the amended system of records.

EFFECTIVE DATES: The proposed changes to FMCS' systems of records becomes effective January 8, 2001.

ADDRESSES: Comments should be addressed to Karen D. Kline, Deputy General Counsel, Federal Mediation and Conciliation Service, 2100 K Street, N.W., Washington, DC 20427.

FOR FURTHER INFORMATION CONTACT: Karen D. Kline, (202) 606-5488.

SUPPLEMENTARY INFORMATION: FMCS has adopted a new system of records, FMCS/VI Roster of Data File, under the Privacy Act of 1974. This system does not duplicate any existing agency system. This notice includes the name; location; categories of individuals on whom the records are maintained; categories of records in the system; authority for maintenance of the system; each routine use; the policies and practices governing storage, retrievability, access controls, retention and disposal; the title and business address of the agency official responsible for the system of records; procedures for notification, access and contesting the records of each system; and the sources for the records in each system. 5 U.S.C. 552(a)(4).

Dated: November 21, 2000.
Jane Lorber,
General Counsel.

FMCS/VI

SYSTEM NAME:

Roster of Neutrals Data File.

SECURITY CLASSIFICATION:

Unclassified.

SYSTEM LOCATION:

Federal Mediation and Conciliation Service, Washington, DC 20427.

CATEGORIES OF INDIVIDUALS COVERED BY THE SYSTEM:

Applicants for the roster of neutrals and neutrals who are on the roster.

CATEGORIES OF RECORDS IN THE SYSTEM:

The first category of records consists of applicant records, those not accepted, to the roster of neutrals. These records contain personal resumes, the personal data questionnaire listing education, professional background and experience, confidential and other recommendations as to acceptability, and correspondence pertaining to rejection from placement on the roster. The second category of records consists of the files of current neutrals (those currently on the roster) and contains the same information as in the applicant files. In addition, such files include: (1) Evaluation and rating of a neutral's experience; (2) competency for certain types of cases; (3) correspondence with a neutral concerning standard fees, interest in only certain cases, complaints, and other correspondence related to case handling procedures; and, (4) biographical sketches summarizing information contained in the personal data questionnaire.

AUTHORITY FOR MAINTENANCE OF THE SYSTEM:

Title II Labor Management Relations Act, 1947, as amended.

PURPOSE(S):

To maintain applications containing personal resumes and other background information provided by neutrals for evaluation, credentialing and assignment to perform non-labor relations alternative dispute resolution work which FMCS may obtain.

ROUTINE USES OF RECORDS MAINTAINED IN THE SYSTEM, INCLUDING CATEGORIES OF USERS AND THE PURPOSES OF SUCH USES:

Biographical sketches are furnished to the parties requesting non-labor relations alternative dispute resolution from FMCS. Data furnished by the applicant or neutral and other sources listed above is routinely disclosed to appropriate persons or organizations outside the agency in the course of verification or evaluation for the purpose of admittance to or retention on the roster. Data furnished by any source in the nature of a complaint or inquiry about the neutral's performance or qualifications are routinely referred to the appropriate person inside the agency in the course of investigating a neutral's eligibility for retention on the roster.

DISCLOSURE TO CONSUMER REPORTING AGENCIES:

None.

POLICIES AND PRACTICES FOR STORING RETRIEVING, ACCESSING, RETAINING, AND DISPOSING OF RECORDS IN THE SYSTEM:

STORAGE:

These records are maintained in original/duplicate document form, electronic form and computer tape.

RETRIEVABILITY:

These records are retrieved by an individual name or identification number.

SAFEGUARDS:

Presently, the files are stored in the FMCS Institute. Access is restricted to FMCS Institute personnel and Management Systems personnel on a limited basis only. These files are used for purposes of evaluating and rating the experience of the neutrals applying to be included on the roster of neutrals and for making appropriate referrals for non-labor management alternative dispute resolution.

RETENTION AND DISPOSAL:

Files on neutrals who are included on the roster are maintained as long as the individual is utilized for referral of alternative dispute resolution cases. The files of applicants to the roster are maintained for 2 years. After the two-year retention period, a separate listing of rejected neutral applicants is prepared and the file is destroyed.

SYSTEM MANAGER(S) AND ADDRESS:

Director, FMCS Institute, Federal Mediation and Conciliation Service, 2100 K Street, NW, Washington, DC 20427.

NOTIFICATION PROCEDURE:

Individuals seeking knowledge of whether the system contains information about them should direct their inquiries in writing to the Director of Administration or Director of the FMCS Institute at the aforementioned address. All such inquiries should indicate name and any other information that may be helpful in locating the file.

RECORD ACCESS PROCEDURES:

Same as notification procedure above.

CONTESTING RECORD PROCEDURES:

Same as notification procedure above.

RECORD SOURCE CATEGORIES:

The records contain information directly from the individual, information obtained by FMCS, or information prepared by FMCS.

EXEMPTIONS CLAIMED FOR THE SYSTEM:

None.

[FR Doc. 00-30308 Filed 11-28-00; 8:45 am]

BILLING CODE 6372-01-P